DEPARTMENT OF COMMERCE

National Oceanic and Atmospheric Administration

50 CFR Part 660

[Docket No. 240425-0119]

RIN 0648-BM53

Fisheries Off West Coast States; West Coast Salmon Fisheries; Federal Salmon Regulations for Overfished Species Rebuilding Plans

AGENCY: National Marine Fisheries Service (NMFS), National Oceanic and Atmospheric Administration (NOAA), Commerce.

ACTION: Final rule.

SUMMARY: NMFS is revising regulations that implement the Pacific Fishery Management Council's (Council) Pacific Coast Salmon Fishery Management Plan (FMP). This final action removes the rebuilding plan for Snohomish River coho salmon from regulation, as this stock has been rebuilt and is no longer required to be managed under a rebuilding plan.

DATES: Effective May 31, 2024.

FOR FURTHER INFORMATION CONTACT: Shannon Penna, Fishery Management Specialist, 562-980-4239, Shannon.Penna@noaa.gov.

SUPPLEMENTARY INFORMATION: Regulations at 50 CFR part 660, subpart H implement the management of West Coast salmon fisheries under the FMP in the exclusive economic zone (3 to 200 nautical miles (5.6 to 370.4 kilometers)) off the coasts of the States of Washington, Oregon, and California.

The Snohomish River coho salmon stock contributes to U.S. ocean salmon fisheries north of Cape Falcon, ocean salmon fisheries off British Columbia, and marine and freshwater Puget Sound salmon fisheries. In 2018, NMFS determined that Snohomish River coho salmon was overfished under the Magnuson-Stevens Fishery and Conservation Management Act (MSA) (Letter from Barry A. Thom, NMFS West Coast Regional Administrator, to Chuck Tracy, Pacific Fishery Management Council Executive Director, dated June 18, 2018). The MSA requires Councils to develop and implement a rebuilding plan within 2 years of being notified by NMFS that a stock is overfished. In this case, the stock was determined to be overfished when the 3-year geometric spawning escapement dropped below 50,000 spawners. The Council transmitted its recommended rebuilding plan to NMFS on October 17, 2019, which was similar to the existing management framework, to rebuild Snohomish River coho salmon. Estimates of Snohomish River coho exploitation rates were not available for 2020 and 2021; however, fisheries in earlier years resulted in exploitation rates below the maximum fishing mortality threshold (0.6); therefore, Snohomish River coho were not considered subject to overfishing.

The Council determined that the recommended rebuilding plan met the MSA requirement to rebuild the stock as quickly as possible, taking into account the status and biology of any overfished stock and the needs of fishing communities (50 CFR 600.310(j)(3)(i)). NMFS approved and implemented the Council's recommended rebuilding plan for Snohomish River coho salmon through a final rule (86 FR 9301, February 21, 2021).

In 2023, NMFS determined that Snohomish River coho salmon met the criteria in the FMP for being rebuilt and notified the Council (Letter from Jennifer Quan, NMFS West Coast Regional Administrator, to Merrick Burden, Pacific Fishery Management Council Executive Director, dated October 13, 2023). A stock is rebuilt when the 3-year geometric mean spawning escapement exceeds the level associated with the maximum sustainable yield (SMSY). When Snohomish River coho salmon was determined to be overfished, the 3-year geometric mean was 29,677 (2014 to 2016). The most recent 3-year geometric mean of the spawning escapement reported for this stock (2019 to 2021) is 55,154, which exceeds the spawning escapement requirement to achieve SMSY for this stock, 50,000 spawners. Because the stock is rebuilt, it is no longer required to be managed under a rebuilding plan. Therefore, the Snohomish River coho salmon rebuilding plan should be removed from regulation to avoid confusion regarding the stock's status. Additionally, removing the Snohomish River coho salmon rebuilding plan from regulation will avoid confusion should NMFS make a future determination that the Snohomish River coho salmon stock is overfished again, in which case the MSA requires the Council to prepare and implement a rebuilding plan within 2 years of that determination (50 CFR 600.310(j)(2)(ii)). Leaving the current rebuilding plan in regulation could cause confusion as it might be misperceived as being the default rebuilding plan for Snohomish River coho salmon or required for current management, which was not the intention of the Council nor of NMFS. Therefore, to avoid confusion, it is necessary to remove the existing Snohomish River coho salmon rebuilding plan from regulation. The proposed rule was issued on February 28, 2024, and the comment period closed on March 14, 2024.

Public Comment

No comments were received during the public comment period of February 28 to March 14, 2024. No changes were made from the proposed rule.

Classification

NMFS is issuing this rule pursuant to section 305(d) of the MSA. This reason for using this regulatory authority is: pursuant to MSA section 305(d), this action is necessary to carry out this regulatory amendment, because it implements technical and minor administrative changes to the regulations governing the salmon fishery. The NMFS Assistant Administrator has determined that this final rule is consistent with the Salmon FMP and other applicable law.

This final rule has been determined to be not significant for purposes of Executive Order 12866.

The Chief Counsel for Regulation of the Department of Commerce certified to the Chief Counsel for Advocacy of the Small Business Administration during the proposed rule stage that this action would not have a significant economic impact on a substantial number of small entities. The factual basis for the certification was published in the proposed rule and is not repeated here. No comments were received regarding this certification or on the economic impacts of the rule generally. As a result, a regulatory flexibility analysis was not required and none was prepared. This final rule contains no information collection requirements under the Paperwork Reduction Act of 1995.

List of Subjects in 50 CFR Part 660

Fisheries, Fishing, and Recording and reporting requirements.

Dated: April 26, 2024.
Samuel D. Rauch III,
Deputy Assistant Administrator for Regulatory Programs, National Marine Fisheries Service.

For the reasons set out in the preamble, NMFS amends 50 CFR part 660 as follows:

PART 660—FISHERIES OFF WEST COAST STATES

1. The authority citation for part 660 continues to read as follows:

Authority: 16 U.S.C. 1801 et seq., 16 U.S.C. 773 et seq., and 16 U.S.C. 7001 et seq.

§ 660.413 [Amended]

2. Amend § 660.413 by removing paragraph (e).

[FR Doc. 2024-09380 Filed 4-30-24; 8:45 am]

BILLING CODE 3510-22-P